DEPARTMENT OF STATE

[Public Notice: 12616]

U.S. Advisory Commission on Public Diplomacy

ACTION: Notice of meeting.

SUMMARY: The U.S. Advisory Commission on Public Diplomacy (ACPD) will hold an in-person public meeting with online access. A panel of experts will discuss the People's Republic of China's approach to public diplomacy and utilizing the information space to advance PRC objectives.

DATES: Thursday, January 16, 2025, from 11:00am until 12:30pm.

ADDRESSES: The meeting will be held at the U.S. Capitol Visitor Center, First St SE, Washington, DC 20515, Room SVC-203.

SUPPLEMENTARY INFORMATION: This meeting is open to the public, including the media and members and staff of governmental and non-governmental organizations. To attend the event, please register at: https://iipstate.my.site.com/CRMEventRegistration/s/registration-page?event=VR10qHSXpuwn44s_d2aGpqubwFigDBWJtQeXEveDMms_. Doors will open at 10:30 a.m. Please allow time to pass through security and check in at the appointment desk with photo identification. To request reasonable accommodation, please contact Kristy Zamary via email ZamaryKK@state.gov or phone 202-472-8198 by Thursday, December 27, 2024.

Since 1948, the ACPD has been charged with appraising activities intended to understand, inform, and influence foreign publics and to increase the understanding of, and support for, these same activities. The ACPD conducts research and public and private symposia that provides honest assessments of public diplomacy efforts, and disseminates findings through reports, white papers, and other publications. The Commission reports to the President, Secretary of State, and Congress and is supported by the Office of the Under Secretary of State for Public Diplomacy and Public Affairs.

For more information please visit https://www.state.gov/bureaus-offices/under-secretary-for-public-diplomacy-and-public-affairs/united-states-advisory-commission-on-public-diplomacy/, or contact Executive Director Sarah Arkin at ArkinSE@state.gov or Senior Advisor Dan Langenkamp at LangenkampDB@state.gov, both reachable at 202-472-8198.

(Authority: 22 U.S.C. 2651a, 22 U.S.C. 1469, 5 U.S.C. 1001 et seq., and 41 CFR 102-3.150.)

Kristina K. Zamary,
Program Assistant, U.S. Advisory Commission on Public Diplomacy, Department of State.

[FR Doc. 2024-30859 Filed 12-27-24; 8:45 am]

BILLING CODE 4710-45-P